DEPARTMENT OF COMMERCE

National Oceanic and Atmospheric Administration

[RTID 0648-XC270]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Snapper Grouper Committee; Mackerel Cobia Committee; and Southeast Data, Assessment and Review (SEDAR) Committee. The meeting week will also include a discussion with Samuel D. Rauch, III, Deputy Assistant Administrator for Regulatory Programs with NOAA Fisheries, a formal public comment session, public hearings, and a meeting of the Full Council.

DATES: The Council meeting will be held from 8:30 a.m. on Monday, September 12, 2022, until 12 p.m. on Friday, September 16, 2022.

ADDRESSES:

Meeting address: The meeting will be held at the Town and Country Inn, 2008 Savannah Highway, Charleston, SC 29407; phone: (843) 571-1000. The meeting will also be available via webinar. Registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Comments will be accepted from August 26, 2022, until September 16, 2022. These comments are accessible to the public, part of the Administrative Record of the meeting, and immediately available for Council consideration.

The items of discussion in the individual meeting agendas are as follows: Council Session I, Monday, September 12, 2022, 8:30 a.m. until 5 p.m.

The Council will receive reports from state agencies, Council liaisons, NOAA Office of Law Enforcement, and the U.S. Coast Guard. The Council will receive an update on the Dolphin Wahoo Management Strategy Evaluation (MSE) stakeholder workshops, input from the Golden Crab and Spiny Lobster Advisory Panels, and updates on the Commercial Electronic Logbook Amendment and the National Saltwater Recreational Fisheries Policy. The Council will also review the Acceptable Biological Catch (ABC) Control Rule Amendment and consider input from its advisory panels. A public hearing on the amendment will be held during the meeting week. The Council will also receive an update on East Coast Climate Change Scenario Planning. Snapper Grouper Committee, Tuesday, September 13, 2022, 8:30 a.m. until 4:30 p.m., Wednesday, September 14, 2022, from 8:30 a.m. until 3:45 p.m. and Thursday, September 15, 2022, from 8:30 a.m. until 10:30 a.m.

The Committee will receive a brief on an Exempted Fishing Permit request to continue a research project allowing the collection of speckled hind to study genetic population structure, connectivity, and life history. The Committee will review Snapper Grouper Regulatory Amendment 35 (Release Mortality Reduction and Red Snapper Catch Levels) and provide further guidance on actions to explore in the amendment to reduce the number of dead releases in the fishery.

The Committee will review the Recreational Permitting and Reporting Amendment (Snapper Grouper Amendment 46) and consider input from the Snapper Grouper Recreational Permitting and Reporting Technical Advisory Panel. The Committee will receive a presentation on yellowtail snapper interim analyses, input from the Council's Scientific and Statistical Committee (SSC), and a yellowtail snapper fishery overview. Management measures for gag grouper will be discussed as included in Snapper Grouper Amendment 53 and the amendment will be considered for approval for public hearings.

The Committee will review input received from shareholders during discussion of Snapper Grouper Amendment 48 addressing the wreckfish fishery and consider approving the amendment for public hearings. The Committee will review Snapper Grouper Amendment 52, addressing management of golden tilefish and blueline tilefish, and Amendment 51, addressing management of snowy grouper. Input received during earlier public hearings for both amendments will be considered. In addition, public hearings for both amendments will be held during the Council meeting.

The Committee will review Snapper Grouper Amendment 49, addressing management of greater amberjack, and consider recommending the amendment for final approval by the Council. A public hearing for Snapper Grouper Amendment 49 will be held as part of the meeting week. Finally, the Committee will provide recommendations for topics to be considered during the fall 2022 meeting of the Snapper Grouper Advisory Panel and for a meeting of golden tilefish endorsement holders. Discussion with Samuel D. Rauch, III, Deputy Assistant Administrator for Regulatory Programs, NOAA Fisheries Tuesday, September 13, 2022, 4:30 p.m. until 5 p.m.

Formal Public Comment, Wednesday, September 14, 2022, 4 p.m.—Public comment will be accepted from individuals attending the meeting in person and via webinar on all items on the Council meeting agenda. The Council Chair will determine the amount of time provided to each commenter based on the number of individuals wishing to comment.

Mackerel Cobia Committee, Thursday, September 15, 2022, 10 a.m. Until 2:30 p.m.

The Committee will receive an overview of Amendment 33 to the Coastal Migratory Pelagic Fishery Management Plan (FMP) for the Gulf of Mexico and South Atlantic affecting Gulf of Mexico king mackerel and review the joint FMP objectives. The Committee will also receive a summary of recent developments in the Atlantic Spanish mackerel fishery, a presentation on the Spanish mackerel assessment, recommendations from the SSC, and a fishery overview. The Committee will provide input on topics for the fall 2022 meeting of the Mackerel Cobia Advisory Panel.

SEDAR Committee, Thursday, September 15, 2022, 2:30 p.m. Until 3:30 p.m.

The Committee will receive a report from the SEDAR Steering Committee, a projects update, and approve the Scopes of Work for the king mackerel, gag grouper, and red porgy assessments.

Council Session II, Thursday, September 15, 2022, 3:30 p.m. Until 5 p.m. and Friday, September 16, 2022, 8:30 a.m. Until 12 p.m.

The Council will elect a chair and vice chair, receive a briefing on any legal issues, if needed, and present the 2021 Law Enforcement Officer of the Year award. The Council will receive staff reports and provide topics for the Habitat Advisory Panel meeting.

The Council will receive reports from NOAA Fisheries Southeast Regional Office and the Southeast Fisheries Science Center. The Council will receive Committee reports, review its workplan for the next quarter, upcoming meetings, and take action as necessary. The Council will discuss any other business as needed.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 11, 2022.
Rey Israel Marquez,
Acting Deputy Director, Office of Sustainable Fisheries, National Marine Fisheries Service.

[FR Doc. 2022-17636 Filed 8-16-22; 8:45 am]

BILLING CODE 3510-22-P